DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before January 11, 2010. Address written comments to Statutory Import Programs Staff, Room 3720, U.S. Department of Commerce, Washington, DC 20230. Applications may be examined between 8:30 a.m. and 5 p.m. at the U.S. Department of Commerce in Room 3720.

Docket Number: 09-064. Applicant: Yale University, 15 Prospect St., P.O. Box 208284, New Haven, CT 06520-8284. Instrument: Electron Microscope, Quanta 3D Dual-Beam Focused Ion-Beam Tool. Manufacturer: FEI Company, Czech Republic. Intended Use: The instrument will be used to study the physics and engineering of small structures, including the crystal structure of alumina. The instrument will be used for cutting precise cross-sections of materials and devices using a focused beam of gallium ions. The instrument is also equipped with a scanning electron microscope for the non-destructive viewing of samples. Justification for Duty-Free Entry: No instruments of same general category are manufactured in the United States. Application accepted by Commissioner of Customs: November 6, 2009.

Docket Number: 09-065. Applicant: U.S. Department of Homeland Security, Science and Technology Directorate, Office of National Labs, National Biodefense Analysis and Countermeasures Center, 8300 Research Plaza, Ft. Detrick, Frederick, MD 21702. Instrument: Scanning Electron Microscope, Quanta 200 FEG. Manufacturer: FEI Company, Czech Republic. Intended Use: The instrument will be used to study biological agents and specimens at the cellular and genomic levels. The instrument is an environmental/field emission system that allows specimens to be viewed without dehydration, a feature that can save time and allow greater flexibility in experimentation. This instrument provides the most automated functions (alignment, stigmation, focus) that significantly improve the quality and volume of observations. Justification for Duty-Free Entry: No instruments of same general category are manufactured in the United States. Application accepted by Commissioner of Customs: November 13, 2009.

Dated: December 14, 2009.
Christopher Cassel,
Director, IA Subsidies Enforcement Office.

[FR Doc. E9-30322 Filed 12-18-09; 8:45 am]

BILLING CODE 3510-DS-P